DEPARTMENT OF LABOR

Office of Workers' Compensation Programs

[OMB Control Nuo. 1240-0004]

Proposed Extension of Information Collection; Carrier's Report of Issuance of Policy

AGENCY: Office of Workers' Compensation Programs, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the OWCP is soliciting comments on the information collection for the Carrier's Report of Issuance of Policy, LS-570.

DATES: All comments must be received on or before May 23, 2025.

ADDRESSES: You may submit comment as follows. Please note that late, untimely filed comments will not be considered.

Electronic Submissions: Submit electronic comments in the following way:

• Federal eRulemaking Portal: https://www.regulations.gov. Follow the instructions for submitting comments for [OWCP-2025-XXXX]. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP, Division of Longshore and Harbor Workers' Compensation, 200 Constitution Ave. NW, Room S-3323, Washington, DC 20210.

• OWCP/LHWC will post your comment as well as any attachments, except for information submitted and marked as confidential, in the docket at https://www.regulations.gov.

FOR FURTHER INFORMATION CONTACT: Anjanette Suggs, Office of Workers' Compensation Programs at (202) 354-9660 (phone) or suggs.anjanette@dol.gov (email).

SUPPLEMENTARY INFORMATION:

I. Background

The Division of Longshore and Harbor Workers' Compensation (LHWC) administers the Longshore and Harbor Workers' Compensation Act. The Act provides benefits to workers injured in maritime employment on the navigable waters of the United States or in an adjoining area customarily used by an employer in loading, unloading, repairing, or building a vessel. In addition, several acts extend the Longshore Act's coverage to certain other employees.

Authorized insurance carriers are required to report the issuance of policies and endorsements under the Longshore and Harbor Workers' Compensation Act and its extensions, the Defense Base Act, Outer Continental Shelf Lands Act and Non-Appropriated Fund Instrumentalities Act, to the Department of Labor's Office of Workers' Compensation Programs (OWCP). 20 CFR 703.116. Carriers use the form LS-570 for this purpose. Filing the form LS-570 with OWCP's Division of Federal Employees', Longshore and Harbor Workers' Compensation binds the carrier to full liability for the named employer's obligations under the Act or its extensions. Legal authority for this information collection is found at 33 U.S.C. 932(a) and 33 U.S.C. 939.

Regulatory authority is found at 20 CFR 703.116 and 20 CFR 703.118.

This information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6.

II. Desired Focus of Comments

OWCP/DLHWC is soliciting comments concerning the proposed information collection related to the Request for Employment Information. OWCP/DLHWC is particularly interested in comments that:

• Evaluate whether the collection of information is necessary for the proper performance of the functions of the Agency, including whether the information has practical utility;

• Evaluate the accuracy of OWCP/C's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Documents related to this information collection request are available at https://regulations.gov and at DOL-OWCP located at 200 Constitution Ave. NW, Room S-3323, Washington, DC 20210. Questions about the information collection requirements may be directed to the person listed in the FOR FURTHER INFORMATION CONTACT section of this notice.

III. Current Actions

This information collection request concerns the Carrier's Report of Issuance of Policy (LS-570). OWCP has updated the data with respect to the number of respondents, responses, burden hours, and burden costs supporting this information collection request from the previous information collection request.

Type of Review: Extension without change of currently approved collection.

Agency: Office of Workers' Compensation Programs.

OMB Number: 1240-0004.

Affected Public: Private Sector.

Number of Respondents: 400.

Number of Responses: 1,500.

Annual Burden Hours: 25.

Annual Respondent or Recordkeeping Cost: $24.98.

OWCP Form: DLHWC Form, Report of Issuance of Policy.

Comments submitted in response to this notice will be summarized in the request for Office of Management and Budget approval of the proposed information collection request; they will become a matter of public record and will be available at https://www.reginfo.gov.

(Authority: 44 U.S.C. 3506(c)(2)(A))

Anjanette Suggs,
Certifying Officer.

[FR Doc. 2025-04933 Filed 3-21-25; 8:45 am]

BILLING CODE 4510-CF-P